OFFICE OF PERSONNEL MANAGEMENT

Notice of Submission for Approval: Declaration for Federal Employment (OF 306)

AGENCY: Office of Personnel Management.

ACTION: 30-day notice and request for comments.

SUMMARY: The Office of Personnel Management (OPM), Suitability Executive Agent Programs, is notifying the general public and other Federal agencies that OPM is seeking Office of Management and Budget (OMB) renewal of a previously approved information collection, Declaration for Federal Employment (OF 306).

DATES: Comments are encouraged and will be accepted until September 5, 2019. This process is conducted in accordance with 5 CFR 1320.10.

ADDRESSES: Interested persons are invited to submit written comments on the proposed information collection to the Office of Information and Regulatory Affairs, Office of Management and Budget by the following method: http://www.regulations.gov. Follow the instructions for submitting comments. All submissions received must include the agency name and docket number for this document. The general policy for comments and other submissions from members of the public is to make these submissions available for public viewing at http://www.regulations.gov as they are received without change, including any personal identifiers or contact information.

FOR FURTHER INFORMATION CONTACT: A copy of this information collection, with applicable supporting documentation, may be obtained by contacting Office of Personnel Management, Suitability Executive Agent Programs, 1900 E Street NW, Suite 1435, Washington, DC 20415 or by electronic mail at SuitEA@opm.gov. Please contact Colleen Crowley at 202-606-2245 if you have questions.

SUPPLEMENTARY INFORMATION: As required by the Paperwork Reduction Act of 1995, 44 U.S.C. 3507(a)(1), OPM is providing an additional 30 days for public comments. OPM previously solicited comments for this collection, with a 60-day public comment period, at 84 FR 5733 (February 22, 2019). 2,748 comments were received. This notice announces that OPM has submitted to OMB a request to renew with no changes a previously approved information collection, OMB number 3206-0182, Declaration for Federal Employment (OF 306). The public has an additional 30-day opportunity to comment.

The Declaration for Federal Employment Optional Form (OF) 306 is completed by applicants who are under consideration for Federal or Federal contract employment. It collects information about an applicant's selective service registration, military service, and general background. The information collected on this form is mainly used to determine a person's acceptability for Federal and Federal contract employment, and his or her retirement status and life insurance enrollment. However, if necessary, and usually in conjunction with another form or forms, the information on this form may be used in conducting an investigation to determine a person's suitability or ability to hold a security clearance, and it may be disclosed to authorized officials making similar, subsequent determinations. The OF 306 permits applicants to disclose and explain their personal history in advance of the background investigation, consistent with a Privacy Act requirement to “collect information to the greatest extent practicable directly from the subject individual when the information may result in adverse determinations about an individual's rights, benefits, and privileges under Federal programs.” See 5 U.S.C. 552a(3)(2).

The OF 306 requests that the applicant provide personal identifying data, including past convictions, imprisonments, probations, paroles or military court martial, delinquency on a Federal debt, Selective Service Registration, United States military service, Federal civilian or military retirement benefits received or applied for, and life insurance enrollment. To be clear, providing information regarding past criminal conduct does not in itself impact an individual's eligibility for most positions in the federal government. Renewal of the form is not changing any current policies.

In the February 22, 2019 Federal Register Notice, OPM proposed to change the form to provide clarification for respondents who may have completed pretrial diversionary programs.

OPM has decided to renew the form in its current state, without the modifications proposed in the February 22, 2019 Federal Register Notice. This will permit OPM time to carefully evaluate and consider the 2,748 comments submitted during the comment period by members of the public and other stakeholders. We will take these comments into consideration to evaluate the best way forward to allow for both continuing to support second chance hiring initiatives and providing federal agencies with the ability to make informed hiring and vetting decisions.

OPM supports efforts by the Administration and Congress to take steps to reform the criminal justice system and improve second chance hiring employment opportunities. For most federal jobs, questions regarding criminal history do not appear on initial job applications, and agencies do consider people with criminal records when filling most government positions if they are the best candidates and can comply with existing requirements. Later in the process, generally after there has been a conditional offer of employment, individuals seeking admission to the civil service are asked to complete a Declaration for Federal Employment (OF 306) and undergo an investigation to establish “suitability” or fitness for employment. See 5 CFR 330.1300.

Past criminal conduct does not prohibit a person from being hired into the vast majority of federal jobs, and each decision is determined on a case by case basis.

Analysis

Agency: Office of Personnel Management, Suitability Executive Agent Programs.

Title: Declaration for Federal Employment, Optional Form (OF) 306.

OMB Number: 3206-0182.

Affected Public: Individuals.

Number of Respondents: 315,478.

Estimated Time per Respondent: 15 minutes.

Total Burden Hours: 78,870.

Office of Personnel Management.
Steve Hickman,
Federal Register Liaison.

[FR Doc. 2019-16696 Filed 8-5-19; 8:45 am]

BILLING CODE 6325-53-P